DEPARTMENT OF COMMERCE

National Oceanic and Atmospheric Administration

[RTID 0648-XA090]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of its Scientific and Statistical Committee's Socio-Economic Panel (SEP) from April 8-9, 2020.

DATES: The meeting will be held via webinar April 8, 2020, from 1:30 p.m. until 5 p.m. and April 9, 2020, from 8:30 a.m. until 12 p.m.

ADDRESSES:

Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The following agenda items will be addressed by the SEP during the meeting:

1. Update on recent and developing Council actions;

2. Updates on the Council's Citizen Science Program and Fishstory pilot project;

3. Coastal Migratory Pelagics historical documents project update,

4. Southeast Fisheries Science Center technical memorandum on the economics of the commercial king and Spanish mackerel fishery;

5. Allocations for multi-use fisheries;

6. Best fishing practices outreach and persuasion;

7. MyFishCount recreational reporting project survey results and final report.

The SEP will provide guidance to staff and recommendations for SSC and Council consideration as necessary. The meeting is open to the public and webinar registration is required. Information regarding webinar registration will be posted to the Council's website at: https://safmc.net/safmc-meetings/scientific-and-statistical-committee-meetings/ as it becomes available. The meeting agenda, briefing book materials, and online comment form will be posted to the Council's website two weeks prior to the meeting. Written comment on SEP agenda topics is to be distributed to the Panel through the Council office, similar to all other briefing materials. Written comment to be considered by the SEP shall be provided to the Council office no later than one week prior to an SEP meeting. For this meeting, the deadline for submission of written comment is 12 p.m., Monday, April 1, 2020.

Multiple opportunities for comment on agenda items will be provided during the SEP meeting. Open comment periods will be provided at the start of the meeting and near the conclusion. Those interested in providing comment should indicate such in the manner requested by the Chair, who will then recognize individuals to provide comment. Additional opportunities for comment on specific agenda items will be provided, as each item is discussed, between initial presentations and SEP discussion. Those interested in providing comment should indicate such in the manner requested by the Chair, who will then recognize individuals to provide comment. All comments are part of the record of the meeting.

Special Accommodations

These meetings are physically accessible to people with disabilities. Requests for auxiliary aids should be directed to the Council office (see ADDRESSES) 3 days prior to the public hearings.

Note: The times and sequence specified in this agenda are subject to change.

Authority: 16 U.S.C. 1801 et seq.

Dated: March 19, 2020.
Tracey L. Thompson,
Acting Deputy Director, Office of Sustainable Fisheries, National Marine Fisheries Service.

[FR Doc. 2020-06157 Filed 3-23-20; 8:45 am]

BILLING CODE 3510-22-P